DEPARTMENT OF COMMERCE

[A-580-881]

Certain Cold-Rolled Steel Flat Products From the Republic of Korea: Final Results of Antidumping Duty Administrative Review; 2021-2022

AGENCY: Enforcement and Compliance, International Trade Administration, Department of Commerce.

SUMMARY: The U.S. Department of Commerce (Commerce) finds that certain producers/exporters of cold-rolled steel flat products (cold-rolled steel) from the Republic of Korea (Korea) subject to this administrative review made sales of subject merchandise at less than normal value during the period of review (POR), September 1, 2021, through August 31, 2022.

DATES: Applicable February 23, 2024.

FOR FURTHER INFORMATION CONTACT: Caroline Carroll, AD/CVD Operations, Office IX, Enforcement and Compliance, International Trade Administration, U.S. Department of Commerce, 1401 Constitution Avenue NW, Washington, DC 20230; telephone: (202) 482-4948.

SUPPLEMENTARY INFORMATION:

Background

On October 5, 2023, Commerce published the Preliminary Results.¹ On January 3, 2024, we extended the deadline for these final results to no later than February 16, 2024.² For a complete description of the events that followed the Preliminary Results, see the Issues and Decision Memorandum.³ Commerce conducted this administrative review in accordance with section 751(a) of the Tariff Act of 1930, as amended (the Act).

¹ See Certain Cold-Rolled Steel Flat Products from the Republic of Korea: Preliminary Results of Antidumping Duty Administrative Review; 2021-2022, 88 FR 69116 (October 5, 2023) (Preliminary Results), and accompanying Preliminary Decision Memorandum.

² See Memorandum, “Certain Cold-Rolled Steel Flat Products from the Republic of Korea: Extension of Deadline for Final Results of 2021-2022 Antidumping Duty Administrative Review,” dated January 3, 2024.

³ See Memorandum, “Issues and Decision Memorandum for the Final Results of the 2021-2022 Administrative Review of the Antidumping Duty Order on Certain Cold-Rolled Steel Flat Products from the Republic of Korea,” dated concurrently with, and hereby adopted by, this notice (Issues and Decision Memorandum).

Scope of the Order ⁴

⁴ See Certain Cold Rolled Steel Flat Products from Brazil, India, the Republic of Korea, and the United Kingdom: Amended Final Affirmative Antidumping Determinations for Brazil and the United Kingdom and Antidumping Duty Orders, 81 FR 64432 (September 20, 2016) (Order).

The product covered by the Order is cold-rolled steel from Korea. For a complete description of the scope of the Order, see the Issues and Decision Memorandum.

Analysis of the Comments Received

All issues raised in the case and rebuttal briefs are addressed in the Issues and Decision Memorandum.⁵ A list of the issues which parties raised, and to which we respond in the Issues and Decision Memorandum, is attached in the appendix to this notice. The Issues and Decision Memorandum is a public document and is on file electronically via Enforcement and Compliance's Antidumping and Countervailing Duty Centralized Electronic System (ACCESS). ACCESS is available to registered users at https://access.trade.gov. In addition, a complete version of the Issues and Decision Memorandum can be accessed directly at https://access.trade.gov/public/FRNoticesListLayout.aspx.

⁵ Id.

Changes Since the Preliminary Results

Based on a review of the record and comments received from interested parties regarding our Preliminary Results, we made certain changes to the margin calculations for Hyundai Steel Company (Hyundai) and POSCO/POSCO International Corporation (collectively, POSCO).⁶

⁶ For a full description of changes, see Issues and Decision Memorandum.

Rate for Respondents Not Selected for Individual Examination

Generally, Commerce looks to section 735(c)(5) of the Act, which provides instructions for calculating the all-others rate in an investigation, for guidance when calculating the weighted-average dumping margin for respondents that were not individually examined in an administrative review. Section 735(c)(5)(A) of the Act provides that the all-others rate should be calculated by weight averaging the weighted-average dumping margins determined for individually examined respondents, excluding rates that are zero, de minimis, or based entirely on facts available.

The final weighted-average dumping margins calculated for Hyundai and POSCO are not zero, de minimis, or based entirely on facts available. Therefore, consistent with section 735(c)(5)(A) of the Act, we calculated a weighted-average dumping margin for KG Dongbu Steel Co., Ltd. (Dongbu) using the calculated rates of the mandatory respondents, Hyundai and POSCO, which are not zero or de minimis, or determined entirely on the basis of facts available.⁷

⁷ See Memorandum “Calculation of the Review-Specific Average Rate for the Final Results,” dated concurrently with this notice.

Final Results of Review

As a result of this review, we determine the following estimated weighted-average dumping margins for the period September 1, 2021, through August 31, 2022:

Producer or exporter | Weighted- average dumping margin (percent)
Hyundai Steel Company | 0.88
POSCO/POSCO International Corporation | 2.70
KG Dongbu Steel Co., Ltd | 2.13

Disclosure

Commerce intends to disclose to interested parties the calculations performed for Hyundai and POSCO in connection with these final results of review within five days of the date of publication of this notice, in accordance with 19 CFR 351.224(b).

Assessment Rate

Pursuant to section 751(a)(2)(C) of the Act and 19 CFR 351.212(b), Commerce will determine, and U.S. Customs and Border Protection (CBP) shall assess, antidumping duties on all appropriate entries of subject merchandise covered by the final results of this review. Commerce intends to issue assessment instructions to CBP no earlier than 35 days after the date of publication date of the final results of this review in the Federal Register. If a timely summons is filed at the U.S. Court of International Trade, the assessment instructions will direct CBP not to liquidate relevant entries until the time for parties to file a request for a statutory injunction has expired (i.e., within 90 days of publication).

Because Hyundai and POSCO reported the entered value of their U.S. sales, we calculated importer-specific ad valorem assessment rates based on the ratio of the total amount of dumping calculated for each importer's examined sales to the total entered value of such sales.⁸ Where an importer-specific ad valorem assessment rate is zero or de minimis, or a respondent's weighted-average dumping margin is zero or de minimis, Commerce will instruct CBP to liquidate appropriate entries without regard to antidumping duties.⁹

⁸ See 19 CFR 351.212(b)(1).

⁹ See 19 CFR 351.212(c)(2).

Commerce's “automatic assessment” practice will apply to entries of subject merchandise during the POR produced by Hyundai or POSCO for which the reviewed companies did not know that the merchandise they sold to the intermediary (i.e., a reseller, trading company, or exporter) was destined for the United States.¹⁰ In such instances, we will instruct CBP to liquidate unreviewed entries at the all-others rate if there is no rate for the intermediate company(ies) involved in the transaction.¹¹

¹⁰ For a full discussion of this practice, see Antidumping and Countervailing Duty Proceedings: Assessment of Antidumping Duties, 68 FR 23954 (May 6, 2003).

¹¹ See Order, 81 FR at 64434.

For Dongbu, the company that was not selected for individual examination, we assigned an assessment rate based on the weighted average of the cash deposit rates calculated for Hyundai and POSCO, excluding any which are zero, de minimis, or determined entirely on the basis of facts available.¹²

¹² See section 735(c)(5)(A) of the Act.

Cash Deposit Instructions

The following cash deposit requirements will be effective for all shipments of the subject merchandise entered, or withdrawn from warehouse, for consumption on, or after, the date of publication of this notice in the Federal Register, as provided for by section 751(a)(2)(C) of the Act: (1) the cash deposit rate for the companies listed above will be equal to the weighted-average dumping margin established in the final results of this review, except if the rate is less than 0.50 percent and, therefore, de minimis within the meaning of 19 CFR 351.106(c)(1), in which case the cash deposit rate will be zero; (2) for previously investigated or reviewed companies not covered in this review, the cash deposit rate will continue to be the company-specific cash deposit rate published for the most recently completed segment of this proceeding in which the company participated; (3) if the exporter is not a firm covered in this review, a prior review, or the less-than-fair-value (LTFV) investigation, but the manufacturer is, then the cash deposit rate will be the rate established for the most recent segment for the manufacturer of the merchandise; and (4) the cash deposit rate for all other manufacturers or exporters will continue to be 20.33 percent, the all-others rate established in the LTFV investigation.¹³ These cash deposit requirements, when imposed, shall remain in effect until further notice.

¹³ See Order, 81 FR at 64434.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification of Interested Parties

This notice is issued and published in accordance with sections 751(a)(1) and 777(i)(1) of the Act.

Dated: February 16, 2024.
Ryan Majerus,
Deputy Assistant Secretary for Policy and Negotiations, Performing the Non-exclusive Functions and Duties of the Assistant Secretary for Enforcement and Compliance.

Appendix

List of Topics Discussed in the Issues and Decision Memorandum

I. Summary

II. Background

III. Changes Since the Preliminary Results

IV. Discussion of the Issues

Comment 1: Comparing Hyundai's Home Market Sales of Non-Prime Merchandise to U.S. Sales of Prime Merchandise

Comment 2: Whether Commerce Should Apply its Quarterly Cost Methodology to Hyundai

Comment 3: Whether to Include Hyundai's Home Market and U.S. Billing Adjustments in its Margin Calculation

Comment 4: Whether to Increase U.S. Price by the Amount of Countervailing Duties Imposed to Offset Hyundai's Export Subsidy

Comment 5: Ministerial Errors in POSCO's Margin Calculation

V. Recommendation

[FR Doc. 2024-03741 Filed 2-22-24; 8:45 am]

BILLING CODE 3510-DS-P